DEPARTMENT OF ENERGY

Federal Energy Regulatory Commission

Combined Notice of Filings #2

Take notice that the Commission received the following electric corporate filings:

Docket Numbers: EC17-176-000.

Applicants: El Cabo Wind LLC.

Description: Supplement to September 13, 2017 Application for Authorization of Transactions under Section 203 of the FPA, et al. of El Cabo Wind LLC.

Filed Date: 10/4/17.

Accession Number: 20171004-5158.

Comments Due: 5 p.m. ET 10/18/17.

Docket Numbers: EC17-192-000.

Applicants: Pattern Energy Group LP, Pattern Energy Group Inc., El Cabo Wind LLC.

Description: Supplement to September 26, 2017 Application for Authorization for Disposition of Jurisdictional Facilities, et al. of Pattern Energy Group LP, et al. under EC17-192.Energy Group Inc. and El Cabo Wind LLC.

Filed Date: 10/4/17.

Accession Number: 20171004-5156.

Comments Due: 5 p.m. ET 10/18/17.

Take notice that the Commission received the following electric rate filings:

Docket Numbers: ER17-2426-000.

Applicants: PSEG Keys Energy Center LLC.

Description: Amendment to September 1, 2017 PSEG Keys Energy Center LLC tariff filing.

Filed Date: 10/4/17.

Accession Number: 20171004-5160.

Comments Due: 5 p.m. ET 10/25/17.

Docket Numbers: ER18-29-000.

Applicants: Public Service Company of New Mexico.

Description: Notice of Cancellation of Interconnection Agreement (Rate Schedule No. 55) of Public Service Company of New Mexico.

Filed Date: 10/5/17.

Accession Number: 20171005-5031.

Comments Due: 5 p.m. ET 10/26/17.

Docket Numbers: ER18-30-000.

Applicants: Mississippi Power Company.

Description: § 205(d) Rate Filing: MRA Shared Sevice Agreement (with Cooperative Energy) Filing to be effective 12/4/2017.

Filed Date: 10/5/17.

Accession Number: 20171005-5086.

Comments Due: 5 p.m. ET 10/26/17.

Docket Numbers: ER18-31-000.

Applicants: Midcontinent Independent System Operator, Inc., Ameren Illinois Company.

Description: § 205(d) Rate Filing: 2017-10-05_SA 3028 Ameren IL-Prairie Power Project#6 Yantisville to be effective 10/6/2017.

Filed Date: 10/5/17.

Accession Number: 20171005-5099.

Comments Due: 5 p.m. ET 10/26/17.

Docket Numbers: ER18-32-000.

Applicants: Southern California Edison Company.

Description: Tariff Cancellation: Notice of Cancellation SCE and City of Pasadena Letter Agreement to be effective 12/5/2017.

Filed Date: 10/5/17.

Accession Number: 20171005-5101.

Comments Due: 5 p.m. ET 10/26/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2017.
Kimberly D. Bose,
Secretary.

[FR Doc. 2017-22003 Filed 10-11-17; 8:45 am]

BILLING CODE 6717-01-P